DEPARTMENT OF THE INTERIOR

National Park Service

[NPS-NCR-WHHO-SSB-NPS0027381; PPNCWHHOP0, PPMVSIE1Z.I00000 (199); OMB Control Number 1024-0277]

Agency Information Collection Activities; National Park Service President's Park National Christmas Tree Music Program Application

AGENCY: National Park Service, Interior.

ACTION: Notice of Information Collection; request for comment.

SUMMARY: In accordance with the Paperwork Reduction Act of 1995, we, the National Park Service (NPS) are proposing to renew an information collection.

DATES: Interested persons are invited to submit comments on or before July 15, 2019.

ADDRESSES: Send your comments on this information collection request (ICR) by mail to Phadrea Ponds, Acting, NPS Information Collection Clearance Officer, 1201 Oakridge Drive Fort Collins, CO 80525; or by email at phadrea_ponds@nps.gov; or by telephone at 970-267-7231. Please reference OMB Control Number 1024-0277 in the subject line of your comments.

FOR FURTHER INFORMATION CONTACT: To request additional information about this ICR, contact Katie Wilmes, National Park Service, Chief of Interpretation, President's Park, by mail at 1100 Ohio Drive SW, Rm 344, Washington, DC 20242; or by email at Katie_Wilmes@nps.gov; or by telephone at 202-208-1778.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed Information Collection Request (ICR) that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service (NPS) Organic Act of 1916 (Organic Act) (54 U.S.C. 100101 et seq.) gives the NPS broad authority to regulate the use of the park areas under its jurisdiction. Consistent with the Organic Act, as well as the Constitution's Establishment Clause which mandates government neutrality and allows the placement of holiday secular and religious displays, the National Christmas Tree Music Program's holiday musical entertainment may include both holiday secular and religious music. To ensure that any proposed music selection is consistent with the Establishment Clause, and presented in a prudent and objective manner as a traditional part of the culture and heritage of this annual holiday event, it must be approved in advance by the NPS.

The NPS National Christmas Tree Music Program at President's Park is intended to provide musical entertainment for park visitors during December on the Ellipse, where in celebration of the holiday season, visitors can observe the National Christmas Tree, visit assorted yuletide displays, and attend musical presentations. Each year, park officials accept applications from musical groups who wish to participate in the annual National Christmas Tree Program. The NPS utilizes Form 10-942, “National Christmas Tree Music Program Application” to accept applications from the public for participation in the program. Park officials utilize the following information from applicants in order to select, plan, schedule, and contact performers for the National Christmas Tree Program:

• Contact name, phone number, and email.

• Group name and location (city, state).

• Preferred performance dates and times.

• Music selections/song list.

• Equipment needs.

• Number of performers.

• Type of group (choir, etc.).

• Acknowledgement of the musical entertainment policy.

Title of Collection: National Park Service President's Park National Christmas Tree Music Program Application.

OMB Control Number: 1024-0277.

Form Number: NPS Form 10-942, “National Christmas Tree Music Program Application”.

Type of Review: Extension of a currently approved collection.

Respondents/Affected Public: Local, national, and international bands, choirs, or dance groups.

Total Estimated Number of Annual Respondents: 75 (2 individuals and 73 private sector).

Total Estimated Number of Annual Responses: 75 (2 individuals and 73 private sector).

Estimated Completion Time per Response: 15 minutes.

Total Estimated Number of Annual Burden Hours: 19.

Respondent's Obligation: Required to obtain or retain a benefit.

Frequency of Collection: On occasion.

Total Estimated Annual Nonhour Burden Cost: None.

Activity | Estimated number of response | Estimated completion time per response (min) | Estimated total annual burden (hours)
NPS Form 10-942 “National Christmas Tree Music Program Application | 75 | 15 | 19

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2019-09903 Filed 5-13-19; 8:45 am]

BILLING CODE 4312-52-P